DEPARTMENT OF TRANSPORTATION

Federal Aviation Administration

Proposed Advisory Circular; Initial Maintenance Inspection (IMI) Test for Turbine Engines

AGENCY: Federal Aviation Administration, DOT.

ACTION: Notice of availability of proposed advisory circular and request for comments.

SUMMARY: The Federal Aviation Administration (FAA) announces the availability of proposed advisory circular (AC) number 33.90-1, Initial Maintenance Inspection (IMI) Test for Turbine Engines.

DATES: Comments must be received on or before August 29, 2003.

ADDRESSES: Send all comments on the proposed AC to the Federal Aviation Administration, Attn: Marc Bouthillier, Engine and Propeller Standards Staff, ANE-110, 12 New England Executive Park, Burlington, MA 01803-5299.

FOR FURTHER INFORMATION CONTACT: Marc Bouthillier, Engine and Propeller Standards Staff, ANE-110, at the above address; telephone: (781) 238-7120; fax: (781) 238-7199; e-mail: marc. bouthillier@faa.gov.

SUPPLEMENTARY INFORMATION:

Comments Invited

A copy of the subject AC may be obtained by contacting the person named under FOR FURTHER INFORMATION CONTACT or by downloading the proposed AC from the following Internet Web site: http://www.airweb.faa.gov/rgl. The FAA invites interested parties to comment on the proposed AC. Comments should identify the subject of the AC and be submitted to the individual identified under FOR FURTHER INFORMATION CONTACT. The FAA will consider all communications received by the closing date before issuing the final AC.

Background

This AC describes acceptable methods, but not the only methods, for demonstrating compliance with the test requirements of 14 CFR 33.90, Initial maintenance inspection (IMI). This AC provides guidance for the following: Test methods and procedures, test pass/fail criteria; and entry-into-service (EIS) IMI or overhaul requirements or recommendations established for the type design.

(Authority: 49 U.S.C. 106(g), 40113, 44701-44702, 44704.)
Issued in Burlington, Massachusetts, on May 28, 2003.
Francis Favara,
Assistant Manager, Engine and Propeller Directorate, Aircraft Certification Service.

[FR Doc. 03-14074 Filed 6-3-03; 8:45 am]

BILLING CODE 4910-13-M